FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at 202/523-5793 or tradeanalysis@fmc.gov.

Agreement No.: 012253.

Title: NMCC/Hoegh Space Charter Agreement.

Parties: Hoegh Autoliners AS and Nissan Motor Car Carrier Co., Ltd. and World Logistics Service (U.S.A.), Inc.

Filing Party: Eric. C. Jeffrey, Esq.; Nixon Peabody LLP; 401 9th Street NW., Suite 900; Washington, DC 20004.

Synopsis: The agreement authorizes the parties to charter space on each other's vessels in the trade between the U.S. East Coast and countries bordering on the Mediterranean, Black, and Red Seas, the Persian Gulf, and the Gulfs of Aden and Oman.

Agreement No.: 012254.

Title: NYK/NMCC North America/Red Sea & Persian Gulf Space Charter Agreement.

Parties: Nippon Yusen Kaisha and Nissan Motor Car Carrier Co., Ltd. and World Logistics Service (U.S.A.), Inc.

Filing Party: Eric. C. Jeffrey, Esq.; Nixon Peabody LLP; 401 9th Street NW., Suite 900; Washington, DC 20004.

Synopsis: The agreement authorizes NYK to charter space to NMCC in the trade between the United States and the Middle East (Jordan, Saudi Arabia, Oman, United Arab Emirates, Bahrain, Qatar, Kuwait, Iraq, and Yemen).

Agreement No.: 012255.

Title: Hoegh/NMCC Space Charter Agreement.

Parties: Hoegh Autoliners AS and Nissan Motor Car Carrier Co., Ltd. and World Logistics Service (U.S.A.), Inc.

Filing Party: Eric. C. Jeffrey, Esq.; Nixon Peabody LLP; 401 9th Street NW., Suite 900; Washington, DC 20004.

Synopsis: The agreement authorizes the parties to charter space on each other's vessels in the trade between Mexico and the U.S. East and Gulf Coasts.

Agreement No.: 012256.

Title: CHE Vessel Sharing Agreement.

Parties: COSCO Container Lines Company, Limited; Hanjin Shipping Co., Ltd.; and Evergreen Line Joint Service Agreement.

Filing Party: Eric. C. Jeffrey, Esq.; Nixon Peabody LLP; 401 9th Street NW., Suite 900; Washington, DC 20004.

Synopsis: The agreement authorizes the parties to charter space on each other's vessels, coordinate sailings, and otherwise cooperate in the carriage of cargo in the trade between China (including Hong Kong), Taiwan, Singapore, Japan, Korea, and Sri Lanka, on the one hand, and the U.S. East Coast, on the other hand.

Agreement No.: 012257.

Title: Zim/Turkon Slot Charter Agreement.

Parties: ZIM Integrated Shipping Services, Ltd. and Turkon Container Transportation & Shipping Inc.

Filing Party: Mark E. Newcomb; ZIM American Integrated Shipping Services Co., LLC; 5801 Lake Wright Dr.; Norfolk, VA 23508.

Synopsis: The agreement authorizes Turkon to charter space to ZIM in the trade between Greece and the U.S. East Coast. The parties have requested expedited review.

By Order of the Federal Maritime Commission.
Dated: March 28, 2014.
Rachel E. Dickon,
Assistant Secretary.

[FR Doc. 2014-07373 Filed 4-1-14; 8:45 am]

BILLING CODE 6730-01-P